DEPARTMENT OF AGRICULTURE

Rural Business-Cooperative Service

Rural Housing Service

Rural Utilities Service

7 CFR Part 5001

[Docket No. RUS-19-Agency-0030]

RIN 0572-AC56

OneRD Guaranteed Loan Regulation, Corrections

AGENCY: Rural Business-Cooperative Service, Rural Housing Service, and Rural Utilities Service, Department of Agriculture (USDA).

ACTION: Final rule; technical correction.

SUMMARY: On December 10, 2021, Rural Development's Rural Business-Cooperative Service, Rural Housing Service, and Rural Utilities Service (referred to as “the Agency” or “Agency”) published a final rule with comment for the OneRD Guaranteed Loan regulation (OneRD). The final rule made necessary revisions to the policy and procedures that strengthened the oversight and management of the growing Community Facilities, Water and Waste Disposal, Business and Industry, and Rural Energy for America guarantee portfolios. Following final implementation of the rule, the Agency found that a correction due to an omission is necessary. This technical correction makes an amendment to fix a paragraph reference.

DATES: Effective July 15, 2022.

FOR FURTHER INFORMATION CONTACT: For questions on this document contact Susan Woolard, Special Projects Coordinator, Rural Development Innovation Center, U.S. Department of Agriculture, 1400 Independence Ave. SW, Stop 1522, Washington, DC 20250; telephone, 202-720-9631; email, susan.woolard@usda.gov.

SUPPLEMENTARY INFORMATION: The Agency is issuing a technical correction to the final rule that published December 10, 2021, at 86 FR70349 that amended 7 CFR part 5001. This correction amends § 5001.126 by updating the cross-references within paragraph (e) to reflect the changes to this paragraph the Agency made in the December 2021 rule.

List of Subjects in 7 CFR Part 5001

Business and industry, Community facility, Energy efficiency improvement, Loan programs, Renewable energy, Rural areas, Rural development, Water and waste disposal.

For the reasons stated in the preamble, the Agency corrects 7 CFR part 5001 with the following technical amendment:

1. The authority citation for part 5001 continues to read as follows:

Authority: 5 U.S.C. 301; 7 U.S.C. 1926(a); 7 U.S.C. 1932(a); and 7 U.S.C. 8107.

2. Amend § 5001.126 by revising paragraph (e) introductory text to read as follows:

§ 5001.126 Borrower Eligibility.

* * * * *

(e) REAP loan guarantees. To be eligible for a loan guarantee under REAP, a borrower must meet the requirements specified in paragraphs (e)(1) through (5) of this section.

* * * * *

Justin Maxson,
Deputy Under Secretary, Rural Development.

[FR Doc. 2022-15105 Filed 7-14-22; 8:45 am]

BILLING CODE 3410-XY-P